DEPARTMENT OF HOUSING AND URBAN DEVELOPMENT

[Docket No. FR-5500-FA-33]

Announcement of Funding Awards for the Community Challenge Planning Grant Program for Fiscal Year 2011

AGENCY: Office of Sustainable Housing and Communities, HUD.

ACTION: Announcement of funding awards.

SUMMARY: In accordance with Section 102(a)(4)(C) of the Department of Housing and Urban Development Reform Act of 1989, this announcement notifies the public of funding decisions made by the Department in a competition for funding under the Fiscal Year 2011 (FY 2011) Notice of Funding Availability (NOFA) for the Community Challenge Planning Grant Program (Challenge Grants). This announcement contains the consolidated names and addresses of this year's award recipients.

FOR FURTHER INFORMATION CONTACT: Dwayne S. Marsh, Office of Sustainable Housing and Communities, U.S. Department of Housing and Urban Development, 451 Seventh Street SW., Washington, DC 20410-4500, telephone (202) 402-6316. Hearing or speech-impaired individuals may access this number via TTY by calling the toll-free Federal Information Service at (800) 877-8339.

SUPPLEMENTARY INFORMATION: The Community Challenge Planning Grant Program fosters reform and reduces barriers to achieving affordable, economically vital, and sustainable communities. Such efforts may include amending or replacing local master plans, zoning codes, and building codes, either on a jurisdiction-wide basis or in a specific neighborhood, district, corridor, or sector to promote mixed-use development, affordable housing, the reuse of older buildings and structures for new purposes, and similar activities with the goal of promoting sustainability at the local or neighborhood level. This Program also supports the development of affordable housing through the development and adoption of inclusionary zoning ordinances and other activities to support plan implementation.

The FY 2011 awards announced in this Notice were selected for funding in a competition posted on Grants.gov and HUD's Web site on July 27, 2011. Applications were scored and selected for funding based on the selection criteria in that NOFA. The amount appropriated in FY 2011 to fund the Challenge Grant Program was $30 million of which $1 million had been reserved for capacity support grants distributed separately. This notice announces the allocation of $28 million for Community Challenge Planning Grants, of which not less than $3 million is awarded to jurisdictions with populations of less than 50,000.

In accordance with Section 102 (a)(4)(C) of the Department of Housing and Urban Development Reform Act of 1989 (103 Stat.1987, 42 U.S.C. 3545), the Department is publishing the names, addresses, and amounts of the 27 awards made under the competition in Appendix A to this document.

Dated: December 22, 2011.
Shelley Poticha,
Director, Office of Sustainable Housing and Communities.

Appendix A

Community Challenge Planning Grant Program Grant Awards From FY 2011 Notice of Funding Availability
City of Boston, 26 Court Street, Boston, MA: Massachusetts 02108-2501 | $1,865,160
City of Beaverton, 4755 SW Griffith Drive, PO Box 4755, Beaverton, OR: Oregon 97076-4755 | 1,000,000
The Hopi Tribe, P.O. Box 123, Kykotsmovi, AZ: Arizona 86039-123 | 150,000
Thurston Regional Planning Council, 2424 Heritage Ct. SW., Suite A, Olympia, WA: Washington 98502-6013 | 763,962
City of Seattle, P.O. Box 94725, Seattle, WA: Washington 98124-4725 | 2,999,257
City of Phoenix, AZ, 200 W. Washington Street, 3rd Floor, Phoenix, AZ: Arizona 85003-1611 | 2,935,634
New Hampshire Housing Finance Authority, 32 Constitution Drive, Bedford, NH: New Hampshire 03110-6000 | 1,000,000
Pueblo de Cochiti Housing Authority, P.O. Box 98, Cochiti, NM: New Mexico 87072-0000 | 292,023
Town of Mansfield, Audrey P. Beck Municipal Building, 4 South Eagleville Road, Mansfield, CT: Connecticut 06268-2599 | 610,596
City of Stamford, 888 Washington Boulevard, Stamford, CT: Connecticut 06904-2152 | 1,105,288
Montachusett Regional Planning Commission, 1427 Water Street Rear Building, Fitchburg, MA: Massachusetts 01420-7266 | 129,500
City of Worcester, 455 Main St., Worchester, MA: Massachusetts 01608-1821 | 930,000
Mid-America Regional Council, 600 Broadway, Suite 200, Kansas City, MO: Missouri 64105-1659 | 403,432
City of Austin, 1000 E. 11th St., Austin, TX: Texas 78702-1943 | 3,000,000
City of Freeport, Illinois, 230 West Stephenson Street, Freeport, IL: Illinois 61032-4359 | 295,419
The Village of Oak Park, 123 Madison Street, Oak Park, IL: Illinois 60302-4272 | 2,916,272
City of Grand Rapids, 1120 Monroe Avenue NW., Suite 300, Grand Rapids, MI: Michigan 49503-1038 | 459,224
County of Washtenaw, 220 N. Main Street, P.O. Box 8645, Ann Arbor, MI: Michigan 48107-8645 | 3,000,000
City of Warren, 391 Mahoning Avenue, Warren, OH: Ohio 44483-1000 | 356,964
Housing Authority of the County of Sacramento, 801 12th Street, Sacramento, CA: California 95814-2404 | 150,000
City of West Sacramento, 1110 West Capitol Avenue, West Sacramento, CA: California 95691-2717 | 400,000
Parish of St. Charles, 15045 River Road, P.O. Box 302, Hahnville, LA: Louisiana 70057-0302 | 442,422
City of High Point, 211 South Hamilton Street, High Point, NC: North Carolina 27260-5232 | 239,141
City of Binghamton, 38 Hawley Street, Binghamton, NY: New York 13901-3767 | 486,058
City of Garland, TX, P.O. Box 469002, 800 Main Street, Garland, TX: Texas 75046-9002 | 106,500
City of Opa-locka, 780 Fisherman Street, 4th Floor, Opa-locka, FL: Florida 33054-3806 | 624,479
Palm Beach County Board of County Commissioners, 301 North Olive Avenue, West Palm Beach, FL: Florida 33401-4700 | 1,980,504
Total | 28,641,835

[FR Doc. 2012-3947 Filed 2-17-12; 8:45 am]

BILLING CODE 4210-67-P